DEPARTMENT OF AGRICULTURE

Forest Service

Thorne Bay Ranger District; Alaska; Big Thorne Project Environmental Impact Statement

Correction

In notice document 2011-3072 which appears on pages 7807-7809 in the issue of Friday, February 11, 2011, make the following correction: In the ADDRESSES section, on page 7808, in the first column, in the sixth line, correct the e-mail address to read as set forth below:

comments-alaska-tongass-thorne-bay@fs.fed.us.

[FR Doc. C1-2011-3072 Filed 2-22-11; 8:45 am]

BILLING CODE 1505-01-D